DEPARTMENT OF COMMERCE

Submission for OMB Review; Comment Request

The Department of Commerce has submitted to the Office of Management and Budget (OMB) for emergency clearance the following proposal for collection of information under the provisions of the Paperwork Reduction Act (44 U.S.C. Chapter 35).

Agency: Office of the Secretary.

Title: DOC Postsecondary Internship Program Intern Evaluation Survey.

Form Number(s): CD-577.

OMB Approval Number: None.

Type of Request: Emergency submission.

Burden Hours: 75.

Number of Respondents: 150.

Average Hours Per Response: 30 minutes.

Needs and Uses: The Office of Executive Budgeting and Assistance Management (OEBAM) manages the U.S. Department of Commerce (DOC) Postsecondary Internship Program. The program is competitively awarded and funded by cooperative agreements with the purpose of providing experiential training opportunities for postsecondary students at DOC and other partner federal agencies. The program is administered through a partnership between DOC and non-profit and/or educational institutions. The information collected from the survey will assist in program improvements and implement performance measures for strategic planning.

Affected Public: Individuals or households, not-for-profit institutions.

Frequency: Three times per year, during summer, fall and spring sessions.

Respondent's Obligation: Voluntary.

OMB Desk Officer: David Rostker, (202) 395-3897.

Copies of the above information collection proposal can be obtained by calling or writing Madeleine Clayton, Departmental Paperwork Clearance Officer, (202) 482-3129, Department of Commerce, Room 6608, 14th and Constitution Avenue, NW., Washington, DC 20230 (or via the Internet at MClayton@doc.gov).

Written comments and recommendations for the proposed information collection should be sent by July 25, 2002 to David Rostker, OMB Desk Officer, Room 10202, New Executive Office Building, Washington, DC 20503.

Dated: July 3, 2002.
Gwellnar Banks,
Management Analyst, Office of the Chief Information Officer.

[FR Doc. 02-17267 Filed 7-9-02; 8:45 am]

BILLING CODE 3510-BV-P